DEPARTMENT OF STATE

22 CFR Part 122

[Public Notice 6300]

RIN 1400-AC50

Amendment to the International Traffic in Arms Regulations: Renewal of Registration

AGENCY: Department of State.

ACTION: Final rule.

SUMMARY: The Department of State is amending the International Traffic in Arms Regulations (ITAR) by revising the validity period for registration and by limiting the time frame in which a registration may be renewed.

DATES: Effective Date: This rule is effective on July 18, 2008.

FOR FURTHER INFORMATION CONTACT: Patricia Slygh, Directorate of Defense Trade Controls, Bureau of Political-Military Affairs, Department of State, (202) 663-2830 or FAX (202) 261-8199; E-mail DDTCResponseTeam@state.gov, ATTN: Regulatory Change, ITAR Part 122.

SUPPLEMENTARY INFORMATION: The Directorate of Defense Trade Controls (DDTC) is revising 22 CFR 122.3 to limit the registration period to one year, instead of up to two years for both new registrants and for those renewing their registration. Registrants will be required to submit renewal packages no more than 60 days prior to their current expiration date.

Regulatory Analysis and Notices

Administrative Procedure Act: This amendment involves a foreign affairs function of the United States and, therefore, is not subject to the procedures contained in 5 U.S.C. 553 and 554.

Regulatory Flexibility Act: Because this rule is exempt from notice and comment rulemaking under 5 U.S.C. 553, it is exempt from the regulatory flexibility analysis requirements set forth in sections 603 and 604 of the Regulatory Flexibility Act (5 U.S.C. 603 and 604).

Unfunded Mandates Reform Act of 1995: This amendment does not involve a mandate that will result in the expenditure by State, local, and tribal governments, in the aggregate, or by the private sector, of $100 million or more in any year and it will not significantly or uniquely affect small governments. Therefore, no actions were deemed necessary under the provisions of the Unfunded Mandates Reform Act of 1995.

Small Business Regulatory Enforcement Fairness Act of 1996: This amendment has not been found to be a major rule within the meaning of the Small Business Regulatory Enforcement Fairness Act of 1996.

Executive Orders 12372 and 13132: This amendment will not have substantial effects on the States, on the relationship between the national government and the States, or on the distribution of power and responsibilities among the various levels of government. Therefore, in accordance with Executive Order 13132, it is determined that this amendment does not have sufficient federalism implications to require consultations or warrant the preparation of a federalism summary impact statement. Executive Order 12372, regarding intergovernmental consultation on Federal programs and activities, does not apply to this amendment.

Executive Order 12866: This amendment is exempt from the review under Executive Order 12866, but has been reviewed internally by the Department of State to ensure consistency with the purposes thereof.

Executive Order 12988: The Department of State has reviewed the proposed regulations in light of sections 3(a) and 3(b)(2) of Executive Order 12988 to eliminate ambiguity, minimize litigation, establish clear legal standards, and reduce burden.

Paperwork Reduction Act: This rule does not impose any new reporting or recordkeeping requirements subject to the Paperwork Reduction Act, 44 U.S.C. Chapter 35.

List of Subjects in 22 CFR Part 122

Arms and munitions, Exports, Reporting and recordkeeping requirements.

Accordingly, for the reasons set forth above, Title 22, Chapter I, Subchapter M, Part 122 is amended as follows:

PART 122—REGISTRATION OF MANUFACTURERS AND EXPORTERS

1. The authority citation for Part 122 continues to read as follows:

Authority: Secs. 2 and 38, Public Law 90-629, 90 Stat. 744 (22 U.S.C. 2752, 2778); E.O. 11958, 42 FR 4311, 1977 Comp. p. 79, 22 U.S.C. 2651a.

2. Section 122.3 is amended by revising paragraphs (a) and (b) to read as follows:

§ 122.3 Registration fees.

(a) A person who is required to register may do so for a period of 1 year upon submission of a completed Form DS-2032, transmittal letter and payment of $1,750.

(b) Expiration of registration. A registrant must submit its request for registration renewal at least 30 days but no earlier than 60 days prior to the expiration date.

* * * * *

Dated: July 3, 2008.
John C. Rood,
Acting Under Secretary for Arms Control and International Security, Department of State.

[FR Doc. E8-16537 Filed 7-17-08; 8:45 am]

BILLING CODE 4701-25-P